DEPARTMENT OF AGRICULTURE

Grain Inspection, Packers and Stockyards Administration

Designation for the Unassigned Areas of East Texas

AGENCY: Grain Inspection, Packers and Stockyards Administration, USDA.

ACTION: Notice.

SUMMARY: GIPSA is announcing the designation of the following organization to provide official services under the United States Grain Standards Act, as amended (USGSA): Central Illinois Grain Inspection (Central Illinois) d/b/a Lone Star Grain Inspection in Texas.

DATES: Effective Date: April 20, 2009.

ADDRESSES: USDA, GIPSA, Karen Guagliardo, Chief, Review Branch, Compliance Division, STOP 3604, Room 1647-S, 1400 Independence Avenue, SW., Washington, DC 20250-3604.

FOR FURTHER INFORMATION CONTACT: Karen Guagliardo at 202-720-7312, e-mail Karen.W.Guagliardo@usda.gov.

Read Applications: All applications and comments will be available for public inspection at the office above during regular business hours (7 CFR 1.27(b)).

SUPPLEMENTARY INFORMATION: In the September 29, 2008, Federal Register (73 FR 56546), GIPSA requested applications for designation to provide official services in the geographic area named above. Applications were due by October 29, 2008.

There were two applicants for the east Texas area: Central Illinois and Gulf Country Inspection Service, Inc. (Gulf Country); both applied for the entire area open for designation. Central Illinois is currently designated as an official service provider and has been providing services in the designation area on an interim basis since July 1, 2008. Gulf Country is a proposed official service provider owned by Tyrone Robichaux, Richard Maynard, Pat LaCour, and Dan Williams. GIPSA asked for comments on Central Illinois and Gulf Country in the December 1, 2008, Federal Register (73 FR 72762). Comments were due by December 31, 2008. GIPSA received a total of 3 comments by the closing date all in support of Central Illinois. The comments received were from grain companies located in the area of designation.

GIPSA evaluated all available information regarding the designation criteria in section 7(f)(l) of the USGSA (7 U.S.C. 79(f)) and determined that Central Illinois is better able to provide official services in the geographic areas specified in the September 2, 2008, Federal Register, for which they applied. This designation action to provide official services in the specified area is effective March 12, 2009. Central Illinois' current designation, which terminates on March 31, 2011, will be amended to include the east Texas area.

Interested persons may obtain official services by calling the telephone numbers listed below.

Official agency | Headquarters location and telephone | Designation start | Designation end
Central Illinois | Bloomington, IL, 309-827-7121. Additional Locations: Pekin, IL, Saginaw, TX, 817-306-8124 | 4/1/2008 | 3/31/2011

Section 7(f)(1) of the USGSA authorizes GIPSA's Administrator to designate a qualified applicant to provide official services in a specified area after determining that the applicant is better able than any other applicant to provide such official services (7 U.S.C. 79 (f)(1)).

Under section 7(g)(1) of the USGSA, designations of official agencies are effective for 3 years unless terminated by the Secretary but may be renewed according to the criteria and procedures prescribed in section 7(f) of the Act.

Authority: 7 U.S.C. 71-87k.

Alan R. Christian,
Acting Administrator, Grain Inspection, Packers, and Stockyards Administration.

[FR Doc. E9-9019 Filed 4-17-09; 8:45 am]

BILLING CODE 3410-KD-P